DEPARTMENT OF VETERANS AFFAIRS

Advisory Committee on Minority Veterans, Notice of Meeting

The Department of Veterans Affairs (VA) gives notice under the Public Law 92-463 (Federal Advisory Committee Act) that a meeting of the Advisory Committee on Minority Veterans will be held from May 4-6, 2004, in New Orleans, Louisiana, at various sties within the VA Medical Center (VAMC), 1601 Perdido Street. The meeting is open to the public.

The purpose of the Committee is to advise the Secretary on the administration of VA benefits and services to minority veterans, to asses the needs of minority veterans and to evaluate whether VA compensation, medical and rehabilitation services, outreach, and other programs are meeting those needs. The Committee will make recommendations to the Secretary regarding such activities.

On May 4, the Committee will meet from 8:45 a.m. to 4:30 p.m. in Chapel Room 2B110 of the VAMC. The Committee will hold panel discussions with key staff members from VA South Central Veterans Integrated Services Network (16), VAMC New Orleans Health Care System, VA Regional Office and Biloxi National Cemetery on services and benefit delivery challenges, successes and concerns for the New Orleans area veterans. Additionally, the Committee will be briefed by the Minority Veterans Program Committee members on outreach initiatives within the minority communities. The Committee will conduct a town hall meeting at the VAMC beginning at 5 p.m.

On May 5, the Committee will meet from 9 a.m. to 11:30 a.m. in Chapel Room 2B110 and will hold a panel discussion with congressional staff members ion their concerns, assessments and observations of New Orleans veterans' needs. Following this discussion the Committee will receive a briefing by video teleconference on “Health Disparities” from Dr. Donna Washington of the Greater Los Angeles VA Health Care System. The Committee will hold a town hall meeting in Houma, Louisiana, beginning at 5 p.m.

On May 6, the Committee's morning session will be held from 9:30 a.m. to 11 a.m. in Room 2C131 of the VAMC. The Committee will be briefed by Dr. Adam Gordon, Assistant Professor of Medicine, University of Pittsburgh School of Medicine, VA Pittsburgh Healthcare System, on “Minority Homeless Access to Healthcare Research”, via video teleconference. The afternoon's session (from 12 noon to 4 p.m.) will be held in Chapel Room 2B110 and, during that session, the Committee will hold panel discussions with various local veteran service organizations as to the issues and concerns facing veterans within the community. The Jackson Heart Research Group will brief the Committee on their study of the environmental and genetic factors influencing the development of cardiovascular disease in African American men and women. The meeting will adjourn at 4 p.m.

The Committee will accept written comments from interested parties on issues outlined in the meeting agenda, as well as other issues affecting minority veterans. Such comments should be referred to the Committee at the following address: Advisory Committee on Minority Veterans, Center for Minority Veterans (00M), U.S. Department of Veterans Affairs, 810 Vermont Avenue, NW., Washington, DC 20420.

For additional information about the meeting, please contact Ms. Elizabeth Olmo at (202) 273-6708.

Dated: April 15, 2004.
By Direction of the Secretary.
E. Philip Riggin,
Committee Management Officer.

[FR Doc. 04-9164 Filed 4-21-04; 8:45 am]

BILLING CODE 8320-01-M